DEPARTMENT OF AGRICULTURE

Submission for OMB Review; Comment Request

August 6, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC, 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal and Plant Health Inspection Service

Title: Highly Pathogenic Avian Influenza; Additional Restrictions.

OMB Control Number: 0579-0245.

Summary of Collection: Disease prevention is the most effective method for maintaining a healthy animal population and enhancing the Animal and Plant Health Inspection Service (APHIS) ability to compete in the world market of animal and animal product trade. Title 21 U.S.C. authorizes sections 111, 114, 114a, 114-1, 115, 120, 121, 125, 126, 134a, 134c, 134f, and 134g. These authorities permit the Secretary to prevent, control, and eliminate domestic diseases such as brucellosis, as well as to take actions to prevent and to manage exotic diseases such as highly pathogenic avian influenza and other foreign animal diseases. Highly pathogenic avian influenza is an extremely infectious and fatal form of influenza in chickens and can strike poultry quickly without any warning signs. To protect the United States against an incursion of highly pathogenic avian influenza, APHIS published an interim rule to prohibit or restrict the importation of birds, poultry, and unprocessed bird and poultry products from regions that have reported the presence of the H5N1 subtype of highly pathogenic avian influenza.

Need and Use of the Information: APHIS will collect the information to ensure that U.S. origin pet birds undergo appropriate examinations before entering the United States. Without the information, it would be impossible for APHIS to establish an effective line of defense against an introduction of highly pathogenic avian influenza.

Description of Respondents: Farms; Individuals or households; Federal Government.

Number of Respondents: 5,000.

Frequency of Responses: Reporting: On occasion.

Total Burden Hours: 5,000.

Animal and Plant Health Inspection Service

Title: Karnal Bunt; Compensation for Custom Harvesters in Northern Texas.

OMB Control Number: 0579-0248.

Summary of Collection: Under the Plant Protection Act (PPA) (7 U.S.C. 7701-7772), the Animal and Plant Health Inspection Service (APHIS) has the responsibility and authorization to prohibit or restrict the importation, entry, or movement of plant and plant pests in the United States. The regulations regarding Karnal Bunt are set forth in 7 CFR Parts 301.89-1 through 301.89-16. APHIS amended the Karnal Bunt regulations to provide for the payment of compensation to custom harvesters for losses they incurred due to the requirement that their equipment be cleaned and disinfected after four counties in northern Texas were declared regulated areas for Karnal Bunt during the 2000-2001 crop season.

Need and Use of the Information: APHIS will collect information using PPQ 540, Certificate of Federal/State Domestic Plant Quarantines. The certificate is used for domestic movement of treated articles relating to quarantines. The information collected is critical to the mission of preventing the infestation of Karnal Bunt into non-infested areas of the United States.

Description of Respondents: Farms; Business or other for-profit.

Number of Respondents: 40.

Frequency of Responses: Reporting: On occasion.

Total Burden Hours: 8.

Sondra Blakey,
Departmental Information Collection Clearance Officer.

[FR Doc. 04-18506 Filed 8-12-04; 8:45 am]

BILLING CODE 3410-34-M